DEPARTMENT OF AGRICULTURE

Food Safety and Inspection Service

[Docket No. FSIS-2024-0024]

National Advisory Committee on Microbiological Criteria for Foods; Membership Nominations

AGENCY: Food Safety and Inspection Service (FSIS), U.S. Department of Agriculture (USDA).

ACTION: Notice; soliciting nominations.

SUMMARY: Pursuant to the provisions of the rules and regulations of the USDA and the Federal Advisory Committee Act (FACA), the USDA is soliciting nominations for membership on the National Advisory Committee on Microbiological Criteria for Foods (NACMCF)and announcing potential charges for the 2025-2027 term. USDA seeks to appoint 30 members. Advisory Committee members serve a two-year term beginning September 2025 through September 2027. Members may be reappointed for one additional consecutive term at the discretion of the Secretary of Agriculture.

DATES: All nomination packages must be received by February 18, 2025.

ADDRESSES: Nomination packages should be sent by email to NACMCF@usda.gov, or mailed to: The Honorable Thomas Vilsack, Secretary, U.S. Department of Agriculture, 1400 Independence Avenue SW, Room 1128 South Building, Attn: Kristal Southern, Designated Federal Officer, FSIS\OPHS\National Advisory Committee on Microbiological Criteria for Foods, Washington, DC 20250.

Docket: For access to documents, call (202) 205-5046 to schedule a time to visit the FSIS Docket Room at 1400 Independence Avenue SW, Washington, DC 20250-3700.

FOR FURTHER INFORMATION CONTACT: Kristal Southern, Designated Federal Officer, by email to NACMCF@usda.gov or by telephone at 202-937-4162.

SUPPLEMENTARY INFORMATION: USDA is soliciting nominations for membership to the NACMCF. USDA seeks to appoint 30 members.

To obtain a scientific perspective that considers all stakeholders, USDA is seeking NACMCF nominees with scientific expertise in microbiology, risk assessment, public health, food science, and other relevant disciplines. USDA is seeking nominations for NACMCF from persons in academia, industry, and State governments, as well as all other interested persons with the required expertise.

All nominees will undergo a USDA background check. Advisory committee members who are not Federal government employees will be appointed to serve as non-compensated special government employees (SGE). SGEs will be subject to appropriate conflict of interest statutes and standards of ethical conduct. Members can serve on only one USDA Advisory Committee at a time. Applicants that are federally registered lobbyists will not be considered for USDA's NACMCF.

Committee members serve 2-year terms that can be reappointed for one additional term. Former members are eligible for repeat service after one term of non-service.

Nominations for membership on the NACMCF must be addressed to the Secretary of Agriculture and a complete nomination package must include: a cover letter addressing the nomination, a resume or curriculum vitae, and a completed USDA Advisory Committee Membership Background Information form AD-755 (available online at: https://www.usda.gov/sites/default/files/documents/ad-755.pdf).

The resume or curriculum vitae must be limited to five one-sided pages and should include educational background, expertise, and a list of select publications, if available. Any submissions with more than the prescribed five one-sided pages in length will have only the first five pages reviewed. A person may self-nominate, or a nomination can be made on behalf of someone else.

Background

The NACMCF provides impartial scientific advice and recommendations to the USDA and other government agencies on microbiological and public health issues relative to the safety of the U.S. food supply.

The NACMCF is a discretionary advisory committee that was established in 1988, by the Secretary of Agriculture, and after consulting with the Secretary of the U.S. Department of Health and Human Services, in response to the recommendations of two external organizations. The National Academy of Sciences recommended an interagency approach to microbiological criteria, since various federal, State, and local agencies are responsible for food safety. Also, the U.S. House of Representatives Committee on Appropriations made a similar recommendation in the Rural Development, Agriculture, and Related Agencies Appropriation Bill for fiscal year 1988. The charter for the NACMCF is available for viewing at https://www.fsis.usda.gov/policy/advisory-committees/national-advisory-committee-microbiological-criteria-foods-nacmcf. The food safety programs of the USDA FSIS and the Food and Drug Administration (FDA) are strengthened through NACMCF recommendations. The programs of other Federal agencies concerned with food safety, including the Centers for Disease Control and Prevention, the Department of Commerce, National Marine Fisheries Service, and the Department of Defense, Veterinary Services also benefit from NACMCF work. FSIS anticipates that the 2025-2027 term Committee will work on charges related to one or more of the following topics: Listeria monocytogenes in ready-to-eat meat and poultry products from FSIS, and food safety strategies for aged raw milk cheeses, from FDA.

The Committee reports to the Secretary of Agriculture through the Under Secretary for Food Safety, the Committee's Chair, and to the Secretary of Health and Human Services through the Assistant Secretary for Health or their representative, the Committee's Vice-Chair. Currently, Dr. José Emilio Esteban, Under Secretary for Food Safety, USDA, is the Committee Chair; Dr. Donald Prater, Principal Associate Commissioner for Human Foods, FDA, is the Vice-Chair; and Dr. Kristal Southern, FSIS, is the Director of the NACMCF Secretariat and Designated Federal Officer.

Appointments to the Committee will be made by the Secretary of Agriculture and take into account the needs of the diverse groups served by the USDA.

The full Committee expects to meet at least once a year, virtually or in person, and the meetings will be announced in advance in the Federal Register. NACMCF holds subcommittee meetings in order to accomplish the work of the Committee; all subcommittee work is reviewed and approved during a public meeting of the full Committee, as announced in the Federal Register. Subcommittees may invite technical experts to present information for consideration by the subcommittee. All data and records available to the full Committee are expected to be available to the public after the full Committee has reviewed and approved the work of the subcommittee.

Advisory committee members are expected to attend all scheduled meetings during their 2-year term to ensure the smooth functioning of the advisory committee. Members must be prepared to work outside of scheduled Committee and subcommittee meetings and may be required to assist in document preparation. Committee members serve on a voluntary basis; however, travel expenses and per diem reimbursements are available when in person meetings occur.

Regarding Nominees Who Are Selected

All SGE and Federal government employee nominees who are selected must complete the Office of Government Ethics (OGE) 450 Confidential Financial Disclosure Report before rendering any advice or before their first meeting. All Committee members will be reviewed pursuant to 18 U.S.C. 208 for conflicts of interest relating to specific NACMCF work charges, and financial disclosure updates will be required annually. Members subject to financial disclosure must report any changes in financial holdings requiring additional disclosure. OGE 450 forms are available online at: https://www.oge.gov/web/oge.nsf/ethicsofficials_financial-disc.

Documents and Comments

NACMCF documents and comments posted on the FSIS website are electronic conversions from a variety of source formats. In some cases, document conversion may result in character translation or formatting errors. The original document is the official, legal copy. To meet the electronic and information technology accessibility standards in Section 508 of the Rehabilitation Act, NACMCF may add alternate text descriptors for non-text elements (graphs, charts, tables, multimedia, etc.). These modifications only affect the internet copies of the documents. Copyrighted documents will not be posted on FSIS' website but will be available for inspection in the FSIS Docket Room.

Additional Public Notification

Public awareness of all segments of rulemaking and policy development is important.Consequently, FSIS will announce this Federal Register publication on-line through the FSIS web page located at: http://www.fsis.usda.gov/federal-register.

FSIS will also announce and provide a link to it through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete Form AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

USDA is an equal opportunity provider, employer, and lender. Equal opportunity practices in accordance with USDA's policies will be followed in all member appointments to the committee. To ensure that the recommendations of the committee consider the needs of the diverse groups served by USDA, membership shall include, to the extent practicable, individuals with demonstrated ability to represent the many communities, identities, races, ethnicities, backgrounds, abilities, cultures, and beliefs of the American people, including underserved communities.

Dated: December 13, 2024.
Cikena Reid,
USDA Committee Management Officer.

[FR Doc. 2024-30484 Filed 12-19-24; 8:45 am]

BILLING CODE 3410-DM-P